DEPARTMENT OF ENERGY

Federal Energy Regulatory Commission

Combined Notice of Filings #1

Take notice that the Commission received the following exempt wholesale generator filings:

Docket Numbers: EG18-127-000.

Applicants: Latitude Solar Center, LLC.

Description: Self-Certification of EG of Latitude Solar Center, LLC.

Filed Date: 9/17/18.

Accession Number: 20180917-5126.

Comments Due: 5 p.m. ET 10/9/18.

Take notice that the Commission received the following electric rate filings:

Docket Numbers: ER18-2409-001.

Applicants: RED-Rochester, LLC.

Description: Tariff Amendment: Supplement to MBR Filing to be effective 11/1/2018.

Filed Date: 9/18/18.

Accession Number: 20180918-5045.

Comments Due: 5 p.m. ET 10/9/18.

Docket Numbers: ER18-2440-000.

Applicants: Southern California Edison Company.

Description: § 205(d) Rate Filing: Revised Formula Rate TO Tariff TCJA to be effective 11/16/2018.

Filed Date: 9/17/18.

Accession Number: 20180917-5133.

Comments Due: 5 p.m. ET 10/9/18.

Docket Numbers: ER18-2441-000.

Applicants: El Paso Electric Company.

Description: § 205(d) Rate Filing: Rate Schedule No. 115 EPE E & P Agreement with Southline Transmission to be effective 9/18/2018.

Filed Date: 9/17/18.

Accession Number: 20180917-5134.

Comments Due: 5 p.m. ET 10/9/18.

Docket Numbers: ER18-2442-000.

Applicants: PJM Interconnection, L.L.C., New York Independent System Operator, Inc.

Description: Request for Limited Waiver of the Joint Operating Agreement of PJM Interconnection, L.L.C. and New York Independent System Operator, Inc.

Filed Date: 9/17/18.

Accession Number: 20180917-5142.

Comments Due: 5 p.m. ET 10/9/18.

Docket Numbers: ER18-2443-000.

Applicants: Entergy Louisiana, LLC.

Description: Request for Limited Waiver of Entergy Louisiana, LLC.

Filed Date: 9/17/18.

Accession Number: 20180917-5144.

Comments Due: 5 p.m. ET 10/9/18.

Docket Numbers: ER18-2444-000.

Applicants: Alabama Power Company.

Description: § 205(d) Rate Filing: Camilla Solar Energy Amended LGIA Filing to be effective 8/31/2018.

Filed Date: 9/18/18.

Accession Number: 20180918-5014.

Comments Due: 5 p.m. ET 10/9/18.

Docket Numbers: ER18-2445-000.

Applicants: Southwest Power Pool, Inc.

Description: § 205(d) Rate Filing: Revisions to Update Auction Revenue Rights Daily Amount Settlement Formula to be effective 11/17/2018.

Filed Date: 9/18/18.

Accession Number: 20180918-5025.

Comments Due: 5 p.m. ET 10/9/18.

Docket Numbers: ER18-2446-000.

Applicants: Old Dominion Electric Cooperative.

Description: Tariff Cancellation: ODEC Docket No. ER18-2010, Notice of Effective Date for Cancellation to be effective 9/14/2018.

Filed Date: 9/18/18.

Accession Number: 20180918-5028.

Comments Due: 5 p.m. ET 10/9/18.

Docket Numbers: ER18-2447-000.

Applicants: Mid-Atlantic Interstate Transmission, LLC, PJM Interconnection, L.L.C.

Description: § 205(d) Rate Filing: MAIT submits four ECSAs, Service Agreement Nos. 4993, 4994, 4996, and 5000 to be effective 11/18/2018.

Filed Date: 9/18/18.

Accession Number: 20180918-5039.

Comments Due: 5 p.m. ET 10/9/18.

Docket Numbers: ER18-2448-000.

Applicants: Robindale Retail Power Services, LLC.

Description: Baseline eTariff Filing: Application Market-Based Rate Tariff, Confidential Treatment & Waivers to be effective 9/19/2018.

Filed Date: 9/18/18.

Accession Number: 20180918-5040.

Comments Due: 5 p.m. ET 10/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2018.
Nathaniel J. Davis, Sr.,
Deputy Secretary.

[FR Doc. 2018-20734 Filed 9-21-18; 8:45 am]

BILLING CODE 6717-01-P